DEPARTMENT OF HEALTH AND HUMAN SERVICES

Centers for Disease Control and Prevention

Disease, Disability, and Injury Prevention and Control Special Emphasis Panels (SEP): Diabetes Prevention and Control in the Americas, Request for Applications (RFA) DP 06-001

In accordance with Section 10(a)(2) of the Federal Advisory Committee Act (Pub. L. 92-463), the Centers for Disease Control and Prevention (CDC) announces the following Meeting:

Name: Disease, Disability, and Injury Prevention and Control Special Emphasis Panel (SEP): Diabetes Prevention and Control in the Americas, RFA DP 06-001.

Time And Date: 1 p.m.-3 p.m., July 18, 2006 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to “Diabetes Prevention and Control in the Americas,” Request for Applications (RFA) DP 06-001.

For Further Information Contact: J. Felix Rogers, Ph.D., M.P.H., Scientific Review Administrator, Office of Extramural Research, CDC, 4770 Buford Highway NE, Mailstop K-92, Atlanta, GA 30341, Telephone 770.488.6521.

The Director, Management Analysis and Services Office, has been delegated the authority to sign Federal Register notices pertaining to announcements of meetings and other committee management activities, for both CDC and the Agency for Toxic Substances and Disease Registry.

Dated: June 14, 2006.
Alvin Hall,
Director, Management Analysis and Services Office Centers for Disease Control and Prevention.

[FR Doc. E6-9701 Filed 6-20-06; 8:45 am]

BILLING CODE 4163-18-P